FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than August 18, 2021.

A. Federal Reserve Bank of Dallas (Karen Smith, Director, Applications) 2200 North Pearl Street, Dallas, Texas 75201-2272:

1. Jon Rex Jones; the Jon Rex Jones Dynasty Trust, Jon Rex Jones, Jr. and Brenda Wilkinson Jones, as co-trustees; the Jon Rex Jones Jr. Dynasty Trust, Brenda Wilkinson Jones, as trustee; the Jon Rex Jones Jr. Trust V, Jon Rex Jones, Jr., as trustee; the Debora L. Jones Trust V and the JAJ Trust V, Julie Ann Jarvis, as trustee of both trusts; and the Stephen Martin Jones Trust V, Stephen Martin Jones, as trustee, all of Austin, Texas; as a group acting in concert to retain voting shares of Albany Bancshares, Inc. and indirectly retain voting shares of First National Bank of Albany/Breckenridge, both of Albany, Texas. Additionally, Jon Rex Jones, Jr., in his capacity as proxy with power to exercise the largest block of voting shares, to acquire additional voting shares of Albany Bancshares and indirectly acquire voting shares of National Bank of Albany/Breckenridge.

Board of Governors of the Federal Reserve System, July 28, 2021.
Michele Taylor Fennell,
Deputy Associate Secretary of the Board.

[FR Doc. 2021-16460 Filed 8-2-21; 8:45 am]

BILLING CODE P